DEPARTMENT OF DEFENSE

Department of the Army

Withdrawal of the Notice of Intent To Prepare a Programmatic Environmental Impact Statement for Land Acquisition, South Texas Training Center in McMullen County, TX

AGENCY: Department of the Army, DoD.

ACTION: Notice of intent; withdrawal.

SUMMARY: On December 23, 2010, the Department of the Army announced in the Federal Register its intent to prepare a Programmatic Environmental Impact Statement (PEIS) to analyze the environmental and socioeconomic impacts associated with the proposed land acquisition and use of approximately 22,232 acres for joint maneuver training and mission activities in McMullen County, Texas. In March of 2018, the Texas Army National Guard determined that the proposed action is no longer needed. The NOI is withdrawn and the NEPA process is terminated.

ADDRESSES: Questions or comments regarding the withdrawal of this action should be forwarded to: TXARNG (ATTN: MAJ Jeffrey Basa), HHC 71st BFSB, 4255 IH 35 North, San Antonio, TX 78218.

FOR FURTHER INFORMATION CONTACT: MAJ Jeffrey Basa at (512) 782-7926 or email at jeffrey.e.basa.mil@mail.mil.

SUPPLEMENTARY INFORMATION: None.

Brenda S. Bowen,
Army Federal Register Liaison Officer.

[FR Doc. 2019-07888 Filed 4-18-19; 8:45 am]

BILLING CODE 5001-03-P